DEPARTMENT OF LABOR

Veterans' Employment and Training Service

Fiscal Year 2014 Through 2016 Stand Down Grant Requests

AGENCY: Veterans' Employment and Training Service, U.S. Department of Labor.

ACTION: Announcement of funds available under the Homeless Veterans' Reintegration Program to support local Stand Down events in Fiscal Year (FY) 2014, FY 2015 and FY 2016 dependent on funding availability.

Funding Opportunity No: 17.805

SUMMARY: The U.S. Department of Labor (USDOL), Veterans' Employment and Training Service (VETS) supports local Stand Down events that help homeless veterans attain meaningful civilian employment. Authority to support such events is in 38 U.S.C. section 2021, which provides that the “Secretary of Labor shall conduct, directly or through grant or contract, such programs as the Secretary determines appropriate to provide job training, counseling, and placement services (including job readiness and literacy and skills training) to expedite the reintegration of homeless veterans into the labor force.” A Stand Down is a local community event where homeless veterans are provided a wide variety of services and incentives. Stand Down funding is provided in the form of non-competitive grants that are awarded on a first-come, first-served basis until available funding is exhausted.

VETS anticipates that approximately $600,000 will be available to award approximately 70 grants in each of the three Federal fiscal years covered by this solicitation. The Federal fiscal year begins on October 1 and ends on September 30 of the next calendar year. Availability of Stand Down grant funding each fiscal year will be dependent upon Federal appropriation. Awards will be made for a maximum of $10,000 per multi-day event, which is up to three days, or $7,000 per one-day event.

VETS is now accepting applications for grant awards to fund Stand Down events in FY 2014. All applications for Stand Down grant funding must be submitted to the appropriate State Director for Veterans' Employment and Training (DVET) no less than 90 days prior to the event. Address and contact information for each state DVET can be found at: http://www.dol.gov/vets/aboutvets/contacts/map.htm. Stand Down grant funding is awarded for a specific event on a specific date. Organizations planning Stand Down events must submit a new application each year to request funding and should not assume that the application will be approved.

Stand Down grant awards are contingent upon a Federal appropriation or a continuing resolution each Federal fiscal year. Therefore, applications submitted after July 1 for events to be held after September 30 may be held for consideration contingent upon Federal funding availability during the upcoming fiscal year. Grant applicants cannot obligate grant funding toward Stand Down expenses prior to receiving a Notice of Award from the Grant Officer; any such expenses will be disallowed.

SUPPLEMENTARY INFORMATION:

I. Funding Opportunity Description

“Stand Down” is a military term referring to an opportunity to achieve a brief respite from combat. Troops assemble in a base camp to receive new clothing, hot food, and a relative degree of safety before returning to the front. Today more than 160 organizations across the country partner with local businesses, government agencies, tribal governments, community, and faith-based service providers to hold Stand Down events in local communities for homeless veterans and their families.

Each year, the Assistant Secretary for Veterans' Employment and Training awards Stand Down grants to assist with the reintegration of homeless veterans into the labor force through programs that enhance employment and training opportunities and promote self-sufficiency. Typically, services available at these events include temporary shelter, showers, haircuts, meals, clothing, hygiene care kits, medical examinations, immunizations, legal advice, state identification cards, veteran benefit information, training program information, employment services, and referral to other supportive services.

Stand Down funding is provided in the form of non-competitive grants that are awarded on a first-come, first-served basis until available funding is exhausted. For the purpose of a Stand Down grant award, applicants must describe a plan that clearly demonstrates how grant funding will be used for homeless veterans only. While both veterans and non-veterans may participate in Stand Down events, grant funding can only be used to purchase items, to include food and meals, for homeless veteran participants. The following minimum services must be available for homeless veteran participants:

Department of Veterans Affairs (VA)—benefits, medical and mental health services;

Department of Labor—State Workforce Agency employment and training services to include Disabled Veterans' Outreach Program (DVOP) specialist or other American Job Center staff, where available; and

Referral services to secure immediate emergency housing.

II. Allowable Costs

Stand Down grant funds must be used to enhance employment and training opportunities or to promote the self-sufficiency of homeless veterans through paid work. Homeless veterans do not always have access to basic hygiene supplies necessary to maintain their health and confidence. Lack of shelter limits their ability to prepare for and present themselves at job interviews or be contacted for follow-up. Basic services such as showers, haircuts, attention to health concerns and other collaborative services provided at a Stand Down can give the homeless veteran a greater sense of self, improving their chances of securing and maintaining employment. Therefore, grant funds may be used to support Stand Down activities such as:

The purchase of food, bottled water, clothing, sleeping bags, one-person tents, backpacks filled with non-perishable foods, hygiene care kits, and non-prescription reading glasses.

Vouchers may be purchased for minor time-limited legal services, consumer credit counseling services, food, and gasoline gift cards for homeless veteran participants. The purchase of gift cards for food and/or gas must be restricted to cards that can only be used to purchase food or gas. Federal awards may not be used for the purchase of alcohol or tobacco products; see 2 CFR 200.423. All grantees purchasing gift cards with grant funds will be required to state the measures they will use to comply with this regulation.

The purchase of job search media such as employment guides or literature in hard copy or on portable storage media, etc.

Special one-time costs for the duration of the Stand Down event such as rental of facilities and/or tents, electricity, equipment, portable toilets and communications or internet access.

The purchase of janitorial supplies, kitchen supplies, and advertising materials such as event posters. Care should be taken to minimize advertisement costs in order to maximize funding available to purchase items or provide services that immediately and positively impact the veteran in need. Applicants that request funding for advertisement expenses that appear to be unreasonable (i.e. over 20 percent of the total grant award) will be asked to reevaluate and reallocate those funds to ensure the homeless veteran participants benefit.

The hiring of security personnel.

The rental of transportation equipment (bus, van, car, taxi, etc.) to provide transportation of homeless veterans to and from the Stand Down event.

The purchase or rental of other pertinent items and services for homeless veteran participants and their families as deemed appropriate by VETS.

Only expenses incurred during the time frame listed on the Notice of Award will be approved as allowable expenses. Any expenses incurred prior to or after the time frame listed on the Notice of Award will be disapproved.

III. Funding Restrictions

Stand Down grant funds may not be used to pay for administrative costs or administrative and/or programmatic staff. Stand Down grant funds may not be used to purchase clothing items for volunteers, pen sets, military and veteran type patches/medals, memento gifts for staff members, visitors, or volunteers (e.g. t-shirts, hats); pen sets, military and veteran type patches/medals, memento gifts for staff members, visitors, or volunteers, or any other supplementary/replacement item(s) not approved by the DVET. Planned budget expenses must be fully itemized and applicants must provide details for every item in the budget narrative. Any planned expenses listed as “other” or “miscellaneous” must be clarified and itemized.

Stand Down grant funding cannot be used to pay for health care related expenses. All medical examinations, to include dental and optometry examinations, should be provided by the VA or a community provider. Purchases of prescription eye wear and dental work are considered medical care expenses and are not allowable. Applicants should explore all opportunities to secure health related services through the local VA Medical Center or VA Outpatient Clinic. Non-prescription reading glasses are considered an allowable expense.

VETS reserves the right to disapprove any proposed cost not consistent with the funding restrictions in this announcement.

IV. Award Information

The maximum amount that can be awarded to support a multiple day Stand Down event is $10,000 per applicant per fiscal year. If the event is held for one (1) day, the maximum amount that can be awarded is $7,000. Additional grants can be awarded to the same organization as long as the participants being served are geographically separated. In these cases, the first submission has priority for funding.

V. Eligibility Information

1. Eligible Applicants—The following organizations may apply for grants under this solicitation: state and local Workforce Investment Boards, Veterans Service Organizations, local public agencies, tribal governments, and non-profit organizations including community and faith-based organizations. Organizations registered with the Internal Revenue Service as 501(c)(4) organizations are not eligible to apply for this funding opportunity.

2. Cost Sharing or Matching—Cost sharing and matching funds are not required. However, VETS strongly encourages applicants to leverage other available resources to maximize the services and incentives provided to homeless veteran participants at Stand Down events.

3. Other Eligibility Requirements

A. As of July 2012, all applicants must register with the System for Award Management (SAM) before submitting an application. SAM is a web-enabled government wide application that collects, validates, stores, and disseminates business information about the Federal government's trading partners in support of contract award, grants, and the electronic payment process. Step by Step instructions for registering with SAM can be found at: http://www.grants.gov/applicants/org_step2.jsp. A grantee must maintain an active SAM registration with current information at all times during which it has an active Federal award or application under consideration. To remain registered in the SAM database after the initial registration, the applicant is required to review and update its information in the SAM database on an annual basis from the date of initial registration or subsequent updates to ensure it is current, accurate, and complete. Failure to register in SAM before application submission will result in the application being found non-responsive. (Prior to July 2012, this functionality was handled by the Central Contractor Registry.)

B. All applicants for Federal funding are required to include a Dun and Bradstreet Number (DUNS) with their application. Applicants can obtain a DUNS number at: http://www.dnb.com or by phone at 1-866-705-5711.

VI. Application Content

To be considered responsive, all applications for Stand Down grant funding must include:

1. An original applicant memorandum requesting Stand Down funds signed in blue ink. The applicant letter must include a statement that the individual who signed the SF 424 is authorized to enter into an agreement with the USDOL.

2. Applicants must provide a Program Narrative that clearly states the need for the Stand Down. The narrative must detail the geographical area to be served and the estimated number of homeless veterans to be served. The narrative must explain the role of the DVOP specialist or other American Job Center (AJC) staff and include a timeline for completion of all Stand Down event activities. The timeline must clearly indicate critical dates in the planning, execution, and follow-up process. If applicable, the timeline will demonstrate the need to draw down awarded funding in advance of the event date with the purpose and date of the funding need. Funding will be made available for draw down no earlier than 45 days prior to the event date, or as identified in the timeline. The timeline must include the date the post-event report is due to the DVET (30 days following the end of the Federal fiscal quarter in which the Stand Down was held) as explained in section VIII of this document;

3. An original Standard Form (SF) 424, Application for Federal Assistance, (OMB No. 4040-0004) signed in blue ink. The SF-424 can be downloaded from www.grants.gov or at Appendix A as described in section X of this document. NOTE: The Grant Officer will only accept the most current version of the SF 424.

4. A SF 424A, Budget Information—Non-Construction Programs (OMB No. 4040-0006). The SF-424A can be downloaded from www.grants.gov or at Appendix B as described in section X of this document.

5. A Budget Narrative—A detailed description of each planned expenditure listed on the SF 424A. The description should describe or indicate the methodology used to determine the cost estimates such as price per quantity, if the item will be purchased or rented, and whether the items will be utilized by the homeless veteran participants, other homeless participants or assist the volunteer(s) at the event. As a cost category VETS does not accept categories designated only as “Other” or “Miscellaneous.” Budget narratives must clearly itemize all expenditures.

Note: The fair share calculation must be applied for expenditures shared among homeless veteran participants and non-homeless veteran participants.

6. An original signed Assurances and Certifications Signature Page, described at Appendix C in section X of this document.

7. Survey on Ensuring Equal Opportunity for Applicants (OMB No. 1894-0010), described as Appendix D in section X of this document.

8. A copy of the SAM Registration active through date of event.

9. Letters of support, particularly from the local AJC and/or DVOP specialists, VA, Department of Housing and Urban Development or the local Continuum of Care, VSOs, State and local government agencies, local businesses, and local non-profit organizations including community-based and faith-based organizations. Letters clearly stating that the DVOP specialist(s) will actively provide employment services at the Stand Down must be provided.

10. If applicable, a copy of the Internal Revenue Service documentation indicating approval of non-profit status, for example: 501(c)(3), 501(c)(19).

VII. Award Administration Information

Stand Down funding is a non-competitive grant awarded on a first-come, first-served basis until available funding is exhausted for the fiscal year. Funding is subject to approval by the Grant Officer and is dependent upon various factors such as urban, rural and geographic balance, the availability of funds, prior performance and proposals that are most advantageous to the government. If approved, the Grant Officer will notify the grantee through a Notice of Award. Under no circumstances will a Stand Down event be awarded funding after the event has taken place.

Upon award, grantees will receive a Personal Identification Number (PIN) and password for e-Grants, the Federal financial reporting system, from the grant officer. If a grantee does not receive a PIN and password for e-Grants, the grantee must notify the DVET immediately. Access to e-Grants is required in order to comply with Federal financial reporting requirements. The grantee will also receive a financial form to complete in order for the USDOL Office of Financial Management Operations to set-up an account in the Health and Human Services, Payment Management System (HHS/PMS). The grantee must submit the completed form as directed in order to electronically draw down awarded funding. The form should be returned via FedEx, UPS, or other non-U.S. Postal Service provider to avoid processing delays. Questions or problems relating to accessing funding or the electronic draw down process should be referred to the USDOL Office of Financial Management Operations at (202) 693-6871.

After setting up the account, the grantee will be able to draw down funds to reimburse approved expenses incurred after award and to cover approved expenses that will be paid within three (3) days of the draw down. Funds requested for draw down through the HHS/PMS are directly deposited into the designated account within 24 hours of the request.

VIII. Required Post-Event Activities and Reporting

After receiving a grant award, the grantee must complete a Federal Financial Report (SF 425) no later than 30 days after the end of each Federal fiscal quarter (October 30, January 30, April 30 and July 30). Instructions for completing this requirement are provided in the HHS/PMS information packet and are also available at: http://www.dpm.psc.gov/grant_recipient/ffr_info/ffr_info.aspx?explorer.event=true.

All grant awarded funds must be drawn down by the grantee within 90 calendar days of the Stand Down. For example, if a Stand Down is held on July 12, 2014 (FY 2014), all funds should be drawn down within 90 days or by October 10, 2014 (FY 2015).

A final SF 425 is due no later than thirty (30) calendar days after the end of the Federal fiscal quarter in which all expended funds have been drawn down. For example, if a Stand Down is held on July 27 and the final drawdown of all expended funds occurs on September 15, the final FFR is due on October 30.

In addition to financial reporting, the grantee is required to submit a post-event report to the DVET at the same time the final SF 425 is completed. The required content of this report will be provided to grantees in the notification of award, which includes the Special Grant Provisions and the grant award letter.

Grantees that anticipate a delay in submitting any SF 425 report or the post-event report should immediately contact the appropriate DVET and provide a justification to request an extension. If VETS disapproves a particular expenditure, and the funds were already drawn down, the grantee will be notified in writing with an explanation for the disapproval and instructions to electronically return the funds to the HHS/PMS account within fifteen (15) calendar days of notification from VETS.

Any failure to comply with the guidance and reporting requirements set forth in the Stand Down Special Grant Provisions provided with the Grant Award letter will be taken into consideration in future funding award decisions by USDOL/VETS.

IX. Agency Contacts

Questions regarding this announcement should be directed to the DVET in your State. Contact information for each DVET is located in the VETS Staff Directory at the following Web page: http://www.dol.gov/vets/aboutvets/contacts/map.htm.

X. Other Information

1. Acknowledgement of USDOL Funding

A. Printed Materials/Intellectual Property: In all circumstances, the following must be displayed on printed materials prepared by the grantee while in receipt of USDOL grant funding: “Preparation of this item was funded by the United States Department of Labor under Grant No. [Insert the appropriate grant number].” All printed materials must also include the following notice: “This workforce product was funded by a grant awarded by the U.S. Department of Labor's Veterans' Employment and Training Service. The product was created by the grantee and does not necessarily reflect the official position of the U.S. Department of Labor and/or the Veterans' Employment and Training Service. The U.S. Department of Labor and/or the Veterans' Employment and Training Service makes no guarantees, warranties, or assurances of any kind, expressed or implied, with respect to such information, including any information on linked sites and including, but not limited to, accuracy of the information or its completeness, timeliness, usefulness, adequacy, continued availability, or ownership. This product is copyrighted by the institution that created it. Internal use by an organization and/or personal use by an individual for non-commercial purposes are permissible. All other uses require the prior authorization of the copyright owner.”

B. Public references to grant: When issuing statements, press releases, requests for proposals, bid solicitations, and other documents describing projects or programs funded in whole or in part with Federal money, all grantees receiving Federal funds must clearly state:

• The percentage of the total costs of the program or project that will be financed with Federal money;

• The dollar amount of Federal financial assistance for the project or program; and

• The percentage and dollar amount of the total costs of the project or program that will be financed by non-governmental sources.

C. Use of USDOL Logo: The Grant Officer must approve the use of the USDOL logo. In addition, once approval is given the following guidance is provided:

• The USDOL logo may be applied to USDOL-funded material prepared for distribution, including posters, videos, pamphlets, research documents, national survey results, impact evaluations, best practice reports, and other publications of global interest. The grantee(s) must consult with USDOL on whether the logo may be used on any such items prior to final draft or final preparation for distribution. In no event will the USDOL logo be placed on any item until USDOL has given the grantee permission to use the logo on the item.

• All documents must include the following notice: “This documentation does not necessarily reflect the views or policies of the U.S. Department of Labor, nor does mention of trade names, commercial products, or organizations imply endorsement by the U.S. Government.”

2. Information Collection

OMB Information Collection No 1225-0086, Expires January 31, 2016. According to the Paperwork Reduction Act of 1995, no persons are required to respond to a collection of information unless such collection displays a valid OMB control number. Public reporting burden for this collection of information is estimated to average twenty (20) hours per response, including time for reviewing instructions, searching existing data sources, gathering and maintaining the data needed, and completing and reviewing the collection of information. Send comments regarding the burden estimated or any other aspect of this collection of information, including suggestions for reducing this burden, to the U.S. Department of Labor, to the attention of Michel Smyth, Departmental Clearance Officer, 200 Constitution Avenue NW., Room N1301, Washington, DC 20210. Comments may also be emailed to DOL_PRA_PUBLIC@dol.gov.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential. Please do not send your completed application to the OMB. Send it to the sponsoring agency as specified in this solicitation.

Appendices

Located on the VETS homepage at: www.dol.gov/vets. Follow the link for Stand Down Grants and Required Forms under Competitive Grants:

Appendix A: Application for Federal Assistance, SF-424

Appendix B: Budget Information, SF-424A

Appendix C: Assurances and Certifications Signature Page

Appendix D: Survey on Ensuring Equal Opportunity for Applicants

Signed at Washington, DC, this 10th day of January, 2014.
Cassandra Mitchell,
Grant Officer.

[FR Doc. 2014-00755 Filed 1-27-14; 8:45 am]

BILLING CODE 4510-79-P